DEPARTMENT OF COMMERCE

Foreign-Trade Zones Board

[Docket 64-2000]

Foreign-Trade Zone 133-Rock Island, Illinois; Application For Foreign-Trade Subzone Status, Deere & Company (Construction Equipment), Davenport, Iowa

An application has been submitted to the Foreign-Trade Zones Board (the Board) by the Quad-City Foreign-Trade Zone, Inc., grantee of FTZ 133, requesting special-purpose subzone status for the manufacturing facility (construction equipment) of Deere & Company (Deere), located in Davenport, Iowa. The application was submitted pursuant to the Foreign-Trade Zones Act, as amended (19 U.S.C. 81a-81u), and the regulations of the Board (15 CFR part 400). It was formally filed on November 17, 2000.

The Deere facility is located at the intersection of Highway 61 and Mt. Joy Road in Davenport, Iowa. This facility (2.2 million square feet; 900 employees) is used for the development and manufacture of construction equipment (heavy-duty four-wheel-drive loaders, motor graders, and heavy-duty wheeled log skidders). Deere uses some foreign-sourced components in the manufactures of these products. However, most of those items enter the U.S. duty-free. The only foreign-sourced items for which Deere is seeking to gain FTZ benefits are transmissions, controllers, and shifters, all of which are only used in the production of four-wheel drive loaders (these components represent approximately 24.3% of the production cost of the loaders). Duty rates on these imported components range from 2.5% to 2.7%.

Zone procedures would exempt Deere from Customs duty payments on foreign components used in export production. On its domestic sales, Deere would be able to choose the lower duty rate that applies to the finished products (duty-free) for the foreign components noted above. FTZ status may also make a site eligible for benefits provided under state/local programs. The application indicates that the savings from zone procedures would help improve the plant's international competitiveness.

In accordance with the Board's regulations, a member of the FTZ Staff has been designated examiner to investigate the application and report to the Board.

Public comment on the application is invited from interested parties. Submissions (original and three copies) shall be addressed to the Board's Executive Secretary at the address below. The closing period for their receipt is February 5, 2001. Rebuttal comments in response to material submitted during the foregoing period may be submitted during the subsequent 15-day period to February 20, 2001.

A copy of the application and the accompanying exhibits will be available for public inspection at each of the following locations: Office of the Executive Secretary, Foreign-Trade Zones Board, U.S. Department of Commerce, Room 4008, 14th and Pennsylvania Avenue, NW., Washington, DC. 20230. Quad-City Foreign-Trade Zone, Inc., 1830 Second Avenue, Suite 200, Rock Island, Illinois 61201.

Dated: November 27,2000.
Dennis Puccinelli,
Executive Secretary.

[FR Doc. 00-31106 Filed 12-5-00; 8:45 am]

BILLING CODE 3510-DS-P